DEPARTMENT OF THE INTERIOR

Fish and Wildlife Service

Notice of Availability of a Safe Harbor Agreement With Assurances and Receipt of an Application for an Incidental Take Permit for Activities on Certain State Lands, by the Arizona Department of Transportation

SUMMARY: The Arizona Department of Transportation (Applicant) has applied to the U.S. Fish and Wildlife Service (Service) for an enhancement of survival permit pursuant to Section 10(a) of the Endangered Species Act (Act). The Applicant has been assigned permit number TE-026887-0. The requested permit, which is for a period of 10 years, would authorize the incidental take of the endangered Gila topminnow (Poeciliopsis occidentalis) and the endangered desert pupufish (Cyprinodon macularius). The proposed take may occur on certain State Lands owned by the Arizona Department of Transportation in the State of Arizona.

Non-federal landowners, who commit to implementing conservation for listed species through a Safe Harbor Agreement, will receive assurances from the Service. The assurances are that additional conservation measures will not be required and additional land, water, or resource use restrictions will not be imposed. The Service has prepared the Categorical Exclusion for the enhancement of survival permit application. A determination of whether jeopardy to the species would occur will not be made until at least 30 days from the date of publication of this notice. This notice is provided pursuant to Section 10(c) of the Act and National Environmental Policy Act regulations (40 CFR 1506.6).

Dates: Written comments on the application should be received on or before July 3, 2000. The agreement, along with any supporting documentation, is available for public review, subject to the requirements of the Privacy Act and Freedom of Information Act, by any party who submits a written request for a copy of such documents within the comment period to the address specified below.

ADDRESSES: Persons wishing to review the application may obtain a copy by writing to the Regional Director, U.S. Fish and Wildlife Service, P.O. Box 1306, Albuquerque, New Mexico 87103. Persons wishing to review the Safe Harbor Agreement and Categorical Exclusion may obtain a copy by contacting Doug Duncan, U.S. Fish and Wildlife Service, Ecological Services Tucson Sub Office, 300 West Congress, Room 6J, Tucson, AZ 85701 (520/670-4860) or David Harlow, U.S. Fish and Wildlife Service, Arizona Ecological Services Field Office, 2321 West Royal Palm Road, Suite 103, Phoenix, Arizona 85021 (602/640-2720; fax 602/640-2730). Documents will be available for public inspection by written request, by appointment only, during normal business hours (7:30 to 4:30) at the offices above. Written data or comments concerning the application, Safe Harbor Agreement, and Categorical Exclusion should be submitted to the Field Supervisor, Ecological Services Field Office, Phoenix, AZ, (see address above). Please refer to permit number TE-026887-0 when submitting comments. All comments received, including names and addresses, will become part of the official administrative record and may be made available to the public.

FOR FURTHER INFORMATION CONTACT: Doug Duncan at the above Tucson Sub Office.

SUPPLEMENTARY INFORMATION: Section 9 of the Act prohibits the “taking” of threatened and endangered species such as the Gila topminnow and desert pupfish. However, the Service, under limited circumstances, may issue permits to take threatened or endangered wildlife species incidental to, and not the purpose of, otherwise lawful activities. Regulations governing permits for endangered species are at 50 CFR 17.22.

The proposed action is issuance of an enhancement of survival permit and implementation of the Safe Harbor Agreement as submitted by the Applicant. The Safe Harbor Agreement provides for actions that promote conservation and recovery of the Gila topminnow and desert pupfish by providing refugia sites. One refugium site in Tempe, Arizona, is proposed for release of Gila topminnow and desert pupfish. Other sites owned by the Arizona Department of Transportation within the natural ranges of the species may be used as refugia for either species. Sites will be determined mutually by the Service and the Arizona Department of Transportation. The Safe Harbor Agreement is designed to provide a net conservation benefit to the Gila topminnow and desert pupfish. The Safe Harbor Agreement has stipulations for monitoring of species populations and habitats and functioning of the Safe Harbor Agreement. The Safe Harbor Agreement also provides for funding the mitigation measures and monitoring.

APPLICANT: The Arizona Department of Transportation intends to manage certain retention basins and other sites for Gila topminnow and desert pupfish. The incidental take of these fish may occur at the release sites during certain management activities. The Service anticipates that this Safe Harbor Agreement will provide a net conservation benefit for these two species of native Arizona fish.

Geoffrey L. Haskett,
Regional Director, Region 2, Albuquerque, New Mexico.

[FR Doc. 00-13691 Filed 5-31-00; 8:45 am]

BILLING CODE 4510-55-P